DEPARTMENT OF ENERGY

[Certification Notice—207]

Office of Fossil Energy; Notice of Filings of Coal Capability Powerplant and Industrial Fuel Use Act

AGENCY: Office of Fossil Energy.

ACTION: Notice of filings.

SUMMARY: The owners/operators of 7 baseload electric powerplants have submitted coal capability self-certifications pursuant to section 201 of the Powerplant and Industrial Fuel Use Act of 1978, as amended, in accordance with 10 CFR 501.60, 61.

ADDRESSES: Copies of self-certification filings are available for public inspection, upon request, in the Office of Coal & Power Import/Export, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load electric powerplant, that such powerplant has the capability to use coal or another alternate fuel. Such certification establishes compliance with section 201(a) as of the date filed with the Department of Energy (DOE). The Secretary is required to publish a notice in the Federal Register that a certification has been filed. The following owners/operators of proposed new baseload electric powerplants have filed self-certifications pursuant to section 201(d) and in accordance with DOE regulations in 10 C.F.R. 501.60, 61.

Owner/operator | Capacity | Plant location | In-service date
Migrant Zeeland, LLC | 550 MW | Zeeland, MI | July 1, 2002.
Duke Energy Fayette, LLC | 620 MW | Masontown, PA | June 1, 2003.
Hermiston Power Partnership | 617 MW | Hermiston, Oregon | June 2002.
Duke Energy Washington, LLC | 620 MW | Beverly, Ohio | June 1, 2002.
Meriden Gas Turbines, LLC | 544 MW | Meriden, CT | August 1, 2003.
Migrant Sugar Creek Ven, Inc. | 559 MW | West Terre Haute, IN | June 1, 2003.
MidAmerican Energy Co. | 540 MW | Pleasant Hill, Iowa | Phase I Summer 2003/Phase II Summer 2003.

Issued in Washington, DC, on April 24, 2002.
Anthony J. Como,
Deputy Director, Electric Power Regulation, Office of Coal & Power Import/Export, Office of Coal & Power Systems, Office of Fossil Energy.

[FR Doc. 02-10572 Filed 4-29-02; 8:45 am]

BILLING CODE 6450-01-P